ENVIRONMENTAL PROTECTION AGENCY

40 CFR Part 52

[CA-079-SIPS; FRL-7246-3]

Motor Vehicle Emissions Budgets in Progress, Attainment, and Maintenance State Implementation Plans for Ozone, Carbon Monoxide, and Nitrogen Dioxide; California

AGENCY: Environmental Protection Agency (EPA).

ACTION: Proposed rule.

SUMMARY: At the request of the State of California, EPA is proposing to limit the duration of our approvals of motor vehicle emissions budgets (“budgets”) in certain existing California state implementation plans (SIPs) that provide for progress, attainment, and maintenance of the 1-hour ozone, 8-hour carbon monoxide (CO), and annual nitrogen dioxide (NO2) national ambient air quality standards (NAAQS). Specifically, we propose to limit our approvals of the existing budgets to last only until the effective date of EPA's adequacy finding for new budgets that replace these existing approved budgets (i.e., budgets for the same pollutant, Clean Air Act requirement and year). The State of California will submit new budgets as part of comprehensive revisions to certain approved progress, attainment, and maintenance plans that reflect updated information and a new version of California's motor vehicle emission factor model. On the effective date of EPA's adequacy finding for a new budget our approval of the existing budget would terminate and thus the new adequate budget would apply instead of the existing budget for transportation conformity purposes.

DATES: Written comments on this proposal must be received by August 15, 2002.

ADDRESSES: Please mail comments to: Dave Jesson (AIR-2), EPA Region IX, 75 Hawthorne Street, San Francisco, CA 94105-3901. The rulemaking docket for this notice is available for public inspection during normal business hours at EPA's Region IX office. A reasonable fee may be charged for copying parts of the docket.

Copies of the SIP materials are also available for inspection at the following location: California Air Resources Board, 1001 I Street, Sacramento, California, 95812.

FOR FURTHER INFORMATION CONTACT: Dave Jesson, EPA Region IX, (415) 972-3957, or jesson.david@epa.gov.

SUPPLEMENTARY INFORMATION: Throughout this document, “we,” “us” and “our” refer to EPA.

Table of Contents

I. Background

A. What Approved SIPs Are Affected by this Proposed Action?

B. What Is Transportation Conformity?

C. What Are Motor Vehicle Emissions Budgets?

D. Which Motor Vehicle Emissions Budgets Usually Apply?

II. What Are We Proposing Today?

A. What Modification to Our Approvals of the Existing Budgets Has the State Requested?

B. How Are We Proposing to Modify Our Approval of the Budgets?

III. Request for Public Comment

IV. Administrative Requirements

I. Background

A. What Approved SIPs Are Affected by this Proposed Action?

In Table 1 below, labeled “California SIPs Whose Budget Approvals Are Being Modified,” we list those SIPs in California that would be affected by this proposed action.

Table 1.—California SIPs Whose Budget Approvals Are Being Modified
Area | Pollutant | Plan | Adoption | Submittal | FR Approval
Antelope Valley (SE Desert) | Ozone | Attainment Plan | 9/9/94, 12/9/94, 4/12/96 | 11/15/94, 12/29/94, 7/10/96 | 1/8/97 62 FR 1150.
Bakersfield | CO | Maintenance Plan | 4/26/96 | 7/3/96 | 3/31/98 63 FR 15305.
Chico | CO | Maintenance Plan | 4/26/96 | 7/3/96 | 3/31/98 63 FR 15305.
Coachella (SE Desert) | Ozone | Attainment Plan | 9/9/94, 12/9/94, 4/12/96 | 11/15/94, 12/29/94, 7/10/96 | 1/8/97 62 FR 1150.
Fresno | CO | Maintenance Plan | 4/26/96 | 7/3/96 | 3/31/98 63 FR 15305.
Kern (SE Desert) | Ozone | Attainment Plan | 12/1/94 | 1/28/94 | 1/8/97 62 FR 1150.
Lake Tahoe—North | CO | Maintenance Plan | 4/26/96 | 7/3/96 | 3/31/98 63 FR 15305.
Lake Tahoe—South | CO | Maintenance Plan | 4/26/96 | 7/3/96 | 3/31/98 63 FR 15305.
Modesto | CO | Maintenance Plan | 4/26/96 | 7/3/96 | 3/31/98 63 FR 15305.
Mojave (SE Desert) | Ozone | Attainment Plan | 10/26/94 | 11/15/94 | 1/8/97 62 FR 1150.
Monterey | Ozone | Maintenance Plan | 5/25/94, 10/19/94 | 7/14/94, 11/14/94 | 1/17/97 62 FR 2597.
Sacramento | Ozone | Attainment Plan | 12/1/94, 12/12/94, 12/13/94, 12/14/94, 12/20/94 | 12/29/94 | 1/8/97 62 FR 1150.
Sacramento | CO | Maintenance Plan | 4/26/96 | 7/3/96 | 3/31/98 63 FR 15305.
San Diego | CO | Maintenance Plan | 4/26/96 | 7/3/96 | 3/31/98 63 FR 15305.
San Francisco Bay Area | CO | Maintenance Plan | 4/26/96 | 7/3/96 | 3/31/98 63 FR 15305.
South Coast | Ozone | Attainment Plan | 11/15/96, 12/10/99 | 2/5/97, 2/4/00 | 4/10/00 65 FR 18903.
South Coast | NO2 | Maintenance Plan | 11/15/96 | 2/5/97 | 7/24/98 63 FR 39747.
Stockton | CO | Maintenance Plan | 4/26/96 | 7/3/96 | 3/31/98 63 FR 15305.
Ventura | Ozone | Attainment Plan | 11/8/94, 12/19/95 | 11/15/94, 7/12/96 | 1/8/97 62 FR 1150.
Note: The attainment plans typically also address CAA provisions relating to progress.

B. What Is Transportation Conformity?

Transportation conformity is a Clean Air Act (CAA) requirement for metropolitan planning organizations (MPOs) and the U.S. Department of Transportation to ensure that federally supported highway and transit activities are consistent with (“conform to”) the SIP. Conformity to a SIP means that an action will not cause or contribute to new violations, worsen existing violations, or delay timely attainment.

The conformity requirements are established by CAA section 176(c). We issued the transportation conformity rule (40 CFR part 93) to implement this CAA requirement.

Under section 176(c), a determination of conformity must be based on the most recent estimates of emissions, and such emissions estimates must be determined from the most recent population, employment, travel and congestion estimates as determined by the MPO or other agency authorized to make such estimates. To comply with section 176(c), motor vehicle emissions estimates for conformity purposes must keep pace with the periodic updates of population, employment, travel and congestion estimates. Section 176(c)(4)(B)(ii) of the Clean Air Act requires MPOs and DOTs to determine the conformity of transportation plans and transportation improvement programs no less frequently than every three years even in the absence of any revision to the underlying progress, attainment, or maintenance SIP. See 40 CFR 93.104 for the frequency requirements in the conformity rule.

C. What Are Motor Vehicle Emissions Budgets?

Progress, attainment, or maintenance SIPs necessarily include estimates of motor vehicle emissions to help areas attain and maintain the NAAQS. These estimates act as a budget or ceiling for emissions from motor vehicles, and are used in transportation conformity to determine whether transportation plans, programs and, in some circumstances, individual transportation projects conform to the progress, attainment or maintenance SIPs. In order for transportation plans, programs and projects to conform, estimated emissions from transportation plans, programs and projects must not exceed the emission budgets contained in the applicable progress, attainment or maintenance SIPs.

In California, new planning data are becoming available that have not as yet been incorporated into the SIPs. However, the CAA requires that the latest planning assumptions be used to make conformity determinations. As a result it becomes difficult to determine conformity to SIPs that are based on older planning assumptions. Therefore, the State has requested that we limit our approval of SIP budgets so that budgets that incorporate new planning data will apply for conformity as soon as they are adequate rather than when they are approved. As explained below, today's proposal sets forth a means to provide for the earliest possible use of new emissions budgets in the transportation planning and conformity process consistent with the fundamental SIP goal of expeditious attainment and maintenance of the NAAQS.

D. Which Motor Vehicle Emissions Budgets Usually Apply?

According to 40 CFR 93.118(e) of the transportation conformity rule, budgets in a submitted SIP can apply for conformity purposes even before we have approved the SIP, under certain circumstances. First, there must not be any other approved SIP budgets that have been established for the same time frame and with respect to the same CAA requirements. For example, if there is already an approved attainment demonstration SIP that establishes budgets for the attainment date, and the State submits a revision to those budgets, the newly submitted budgets cannot apply for conformity purposes until we have approved them into the SIP.

Second, submitted SIP budgets cannot be used unless we have formally found that the submitted SIP budgets are adequate for conformity purposes. Our process for determining adequacy is explained at 40 CFR 93.118(e)(4) and (5), and in a May 14, 1999 memo from Gay MacGregor, Director, Regional and State Programs Division, Office of Mobile Sources, entitled, “Conformity Guidance on Implementation of March 2, 1999 Conformity Court Decision.”

For more details about the applicability of submitted and approved budgets, see 61 FR 36117 (July 9, 1996) and 62 FR 43783 (August 15, 1997). As explained below, today's proposal is not intended to modify the generally applicable rules regarding when submitted budgets become effective for the purposes of transportation conformity. Rather, today's proposal sets forth a means to accommodate the State's request to allow for the prompt use of new budgets in California within the bounds of existing regulatory and statutory requirements.

II. What Are We Proposing Today?

Today, as authorized in CAA sections 110(k) and 301(a), we are proposing to limit the duration of our prior approvals of existing budgets associated with the SIPs for the areas listed above. Under this proposed modification, the existing budgets will continue to be approved but will apply for transportation conformity purposes only until new budgets have been submitted and we have found the new budgets to be adequate.

A. What Modification to Our Approvals of the Existing Budgets Has the State Requested?

The California SIPs identified in Table 1 were developed and adopted in the period 1994 through 1996. In the years since the development of these plans, the California Air Resources Board (CARB) has prepared draft revisions to the mobile source component of the emissions inventories, including a major draft revision to the model used to calculate exhaust and evaporative emissions from motor vehicles. This California-specific model is known as EMFAC. CARB is now making final refinements to this completely new version of EMFAC.

The version of the State's motor vehicle emissions model available for development of the Table 1 SIPs was EMFAC 7F for those SIPs adopted before 1996. The most recent version of EMFAC applicable to these areas is 7G, which was adopted by CARB in 1996 and which was used in California SIPs adopted after 1995.¹

¹ See CARB, Methodology for Estimating Emissions from On-Road Motor Vehicles, 1996. EPA approved EMFAC 7G for use in transportation plan and program conformity analyses in a letter from David Howekamp, EPA, to Michael P. Kenny, CARB, dated April 16, 1998. On January 11, 2002 (67 FR 1464), we approved SF Bay Area-EMFAC2000 for use only in the Bay Area ozone SIP, but we set certain conditions on the approval as explained in that notice due to significant technical limitations in the model.

On June 14, 2002, CARB submitted a letter indicating the State's intention to submit comprehensive revisions to the progress, attainment,and maintenance SIPs and the budgets for the areas listed in Table 1 to reflect, among other new information, the State's revised motor vehicle emissions factors and the updated information on vehicle fleet, age distribution, and activity levels (letter from Michael P. Kenny, CARB, to Wayne Nastri, EPA). The State notes that these plan revisions will benefit air quality and strengthen the SIPs by incorporating: new federally enforceable commitments and control measures; new and updated data that reflect the various emission control rules adopted since the old SIPs were developed; recent vehicle test data for cars and trucks to better represent real-world emissions; and updated vehicle registration data and activity data.

CARB anticipates that by January 2003 the new version of EMFAC will be submitted to us for approval for use in SIPs and conformity analyses statewide. In an April 26, 2002, letter to EPA, the Federal Highway Administration (FHWA), and the Federal Transit Administration (FTA), CARB included a schedule according to which the State expects to submit revised plans and new budgets based on the new EMFAC model and updated information.² The schedule shows that the State expects to submit SIPs for almost all of the areas listed in Table 1 by April 2003.

² Letter from Michael P. Kenny (CARB) to Jack Broadbent (EPA), Michael G. Ritchie (FHWA), and Leslie T. Rogers (FTA). A copy of this letter is in the docket to this rulemaking.

In the June 14, 2002 letter, CARB discusses the benefits of promptly replacing the existing budgets with the new budgets, noting the advantages of basing transportation conformity determinations on updated and enhanced plans and budgets that use the most current and accurate motor vehicle emissions data. CARB expresses concern that these benefits will not be realized for well over a year after the new plans and budgets are submitted, if our prior SIP approvals are not modified to allow for the replacement of the existing budgets upon our adequacy determination with respect to the new budgets.

As described above in Section I.D., new budgets associated with progress, attainment, and maintenance plans generally may not replace existing budgets for conformity purposes until we have taken final action to approve the new budgets and the new plans to which they correspond.³ This SIP approval process may take as much as 18 months from submittal of the plans.⁴ During this period of time, the conformity of transportation plans, programs, and projects would have to continue to be determined based on the existing budgets, which will increasingly diverge from the progress, attainment, and maintenance needs of the areas.

³ In cases where there are currently no approved budgets, the applicability of new budgets would occur when EPA found the budgets adequate under 40 CFR 93.118(e).

⁴ CAA section 110(k) provides for a completeness determination 6 months after submittal of a SIP revision, unless we have before that date deemed the submittal complete or incomplete, and requires us to take final action on the submittal within 1 year of the date on which the submittal became complete.

The adequacy process may be completed in far less time than would be required for full SIP and budget approval. Indeed, under the May 14, 1999, conformity guidance, EPA has established an expedited adequacy process, designed to be completed no more than 90 days from budget submittal.

Because CARB knows that existing SIPs are based on older planning data and models, CARB asks EPA to modify the approval of the existing budgets in the SIPs listed in Table 1 so that the approval of these budgets lasts only until EPA finds adequate new budgets based on updated planning data and models.

B. How Are We Proposing to Modify Our Approval of the Budgets?

In today's notice, we are proposing to limit our approval of existing budgets such that the approved motor vehicle emissions budgets for the SIPs listed in Table 1 will continue to be approved but will apply for transportation conformity purposes only until new budgets based on updated planning data and models have been submitted and we have found them to be adequate for conformity purposes.

In other words, when the State submits revised SIPs containing new budgets using the new version of EMFAC and the updated information, as they have indicated they intend to do, those new budgets will apply for conformity purposes if and when we find the budgets to be adequate for conformity purposes and our adequacy finding is effective. The new budgets would then replace the existing budgets in the approved SIPs, provided that (as we expect) the new budgets are submitted as a revision to the progress, attainment, or maintenance SIPs and are established for the same years as those in the approved SIPs.

We believe the new budgets should apply as soon as we find them adequate rather than delaying applicability of the new budgets until we have approved the revised SIPs. This is because we know now that once we have confirmed that the new budgets are adequate, they will be more appropriate than the existing budgets for conformity purposes because the new budgets will be based on updated information.

If we do not modify our approval of the existing budgets, California will revise their plans and budgets as they have committed, but they will not be able to start using them quickly for conformity purposes. In contrast, according to today's proposal, the revised budgets could be used for conformity after we have completed our adequacy review process, which we have committed to complete within 90 days after revisions are submitted, provided they are adequate. If we do not find the new budgets adequate, the existing budgets would continue to apply. In the event that we disapprove the plans and the new budgets after finding the new budgets adequate, we would act to reapprove the original budgets so that they will again apply, unless we have issued a protective finding with respect to disapproval of the new budgets. Conformity determinations of a transportation plan or TIP made based on the adequate budget will remain valid.

This notice does not propose any change to the transportation conformity rule or to the way it is normally implemented with respect to other submitted and approved SIPs.

We are proposing only one change to our prior approvals of the California SIPs listed in Table 1: we propose to limit our approval of the budgets in those plans so that they will no longer apply once we find adequate new budgets for the same Clean Air Act requirement and year. In all other respects, the Table 1 SIPs will remain federally approved and enforceable unless and until we finalize approval of revised plans, and our limitations apply only to the extent that any new plans explicitly supersede the approved SIPs. Lastly, we do not view California's request to limit the duration of the approval of the existing budgets and have the new budgets apply after they are found adequate to be a SIP revision itself but rather a request that we modify our approvals of previously submitted and approved budgets.

III. Request for Public Comment

We are soliciting public comment on all aspects of this proposal. These comments will be considered before taking final action. To comment on today's proposal, you should submit comments by mail or in person to the ADDRESSES section listed in the front of this document. Your comments must be received by August 15, 2002, to be considered in the final action taken by EPA.

IV. Administrative Requirements

Under Executive Order 12866 (58 FR 51735, October 4, 1993), this proposed action is not a “significant regulatory action” and therefore is not subject to review by the Office of Management and Budget. For this reason, this proposed action is also not subject to Executive Order 13211, “Actions Concerning Regulations That Significantly Affect Energy Supply, Distribution, or Use” (66 FR 28355, May 22, 2001). This proposed action modifies certain previous SIP approval actions and imposes no additional requirements beyond those imposed by state law. Accordingly, the Administrator certifies that this proposed rule will not have a significant economic impact on a substantial number of small entities under the Regulatory Flexibility Act (5 U.S.C. 601 et seq.). Because this rule proposes to modify certain previous SIP approval actions and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely proposes to modify certain previous SIP approval actions, and does not alter the relationship or the distribution of power and responsibilities established in the Clean Air Act. This proposed rule also is not subject to Executive Order 13045, “Protection of Children from Environmental Health Risks and Safety Risks” (62 FR 19885, April 23, 1997), because it is not economically significant.

Because the requirements of section 12(d) of the National Technology Transfer and Advancement Act of 1995 (15 U.S.C. 272 note) do not apply in the context of EPA's review of SIP submissions, the requirements also do not apply in the context of EPA's modification of its previous approvals of such SIP submissions. This proposed rule does not impose an information collection burden under the provisions of the Paperwork Reduction Act of 1995 (44 U.S.C. 3501 et seq.).

List of Subjects in 40 CFR Part 52

Environmental protection, Air pollution control, Carbon monoxide, Intergovernmental relations, Nitrogen dioxide, Ozone, Reporting and recordkeeping requirements, Volatile organic compounds.

Dated: July 3, 2002.
Wayne Nastri,
Regional Administrator, Region IX.

[FR Doc. 02-17875 Filed 7-15-02; 8:45 am]

BILLING CODE 6560-50-P